DEPARTMENT OF AGRICULTURE

Forest Service

Cedar City Ranger District, Dixie National Forest; Utah; Duck Creek—Swains Access Management Project

AGENCY: Forest Service, USDA.

ACTION: Notice of intent to prepare an environmental impact statement.

SUMMARY: Notice is hereby given that the Forest Service, USDA, will prepare an environmental impact statement (EIS) for the Forest Service to implement proposals within the Duck Creek—Swains Access Management Project area, on the Cedar City Ranger District, Dixie National Forest, 1789 N Wedgewood Lane, Cedar City, Utah 84720-7769; FAX: (435) 865-3791; e-mail: psummers@fs.fed.us. This is a revision in accordance with the Federal Register stating that a revised notice to intent is require due to a major change. The original notice of Intent for this project was published in the Federal Register May 21, 2001 (Vol. 66, No. 98, Pages 27934 to 27936). Six months from May 21, 2001 would be November 21, 2001, therefore a revision is required.

DATES: The DEIS is expected to be available for review by June 2002. The Record of Decision and Final Environmental Impact Statement are expected to be available by September 2002. The comment period on the draft environmental impact statement will be 45 days from the date the Environmental Protection Agency publishes the notice of availability in the Federal Register.

ADDRESSES: Send written comments to Priscilla Summers, Project Leader, Cedar City Ranger District, 1789 N Wedgewood Lane, Cedar City, Utah, 84720-7769; FAX: (435) 865-3791; e-mail psummers@fs.fed.us. For further information, mail correspondence to Cedar City Ranger District, Dixie National Forest, 1789 N Wedgewood Lane, Cedar City, Utah, 84720-7769; FAX: (435) 865-3791; e-mail psummers@fs.fed.us.

FOR FURTHER INFORMATION CONTACT: Priscilla Summers, Cedar City Ranger District, Dixie National Forest, 1789 N Wedgewood Lane, Cedar City, Utah, 84720-7769; FAX: (435) 865-3791; e-mail: psummers@fs.fed.us.

SUPPLEMENTARY INFORMATION:

Purpose and Need for Action

The purpose of these proposals is to initiate actions that would improve the motorized transportation system, improve habitat for wildlife, and reduce sedimentation and erosion. The project area is located approximately 24 miles east of Cedar City, Utah. The project would be implemented in accordance with direction in the Land and Resource Management Plan (Forest Plan) for the Dixie National Forest, 1986.

Proposed Action

The proposed action includes:

1. Maintain approximately 222 miles of road open to motorized vehicle travel. Approximately 32 miles of this mileage consists of State Highways 14 and 89, plus the Mammoth Creek Road. These three roads are open but restricted to street legal vehicles only. (This does not include approximately 61 miles on private land that would remain open in the Duck/Swains area.)

2. Provide approximately 35 miles of motorized vehicle trail by restricting travel to motorized trail use on approximately 33 miles of road, and constructing approximately 2 miles of new trail. This does not include the Duck Creek ATV Trail system, which is 8.5 miles.

3. Remove (decommission) approximately 123 miles of unneeded road from the Forest Transportation System close to motorized use, and restore to a more natural state.

4. Close approximately 178 miles of road to motorized use, retaining them on the Forest Transportation System for forest management or emergency use.

5. Implement a Code of Federal Regulations Special Order in the Dixie National Forest Travel Map superceding the existing order that would change the wording from: “roads not shown on the map are open to motorized use unless posted as closed on the ground”, to: “all roads are close unless designated open” in the Duck Creek—Swains Area.

6. Relocate approximately one-half mile of the Bower's Flat road out of a wet meadow.

7. Any new roads (regardless of origin) inventoried after this proposal and corresponding decision will be decommissioned using existing authority.

These activities would occur over five years, with the Strawberry Creek and Swains Creek watersheds implemented last.

Possible Alternatives

Four tentative alternatives excluding the Proposed Action and the No Action Alternative have been developed to address the issues listed in this notice. These are:

• Alternative C Responds to Issue #1—All closed roads would be decommissioned—301 miles

• Alternative D responds to issue #2 with 265 miles of road open and 35 miles of motorized trail open.

• Alternative E Responds to Issue #3 with 303 miles of road and 35 miles of motorized trail open.

• Alternative F Responds to Issues #4 and #5. 193 miles of road and 29 miles of motorized trail open).

Responsible Official

Mary Wagner, Forest Supervisor, Dixie National Forest, 1789 N Wedgewood Lane, Cedar City, Utah, 84720-7769.

Nature of Decision To Be Made

Based on the environmental analysis in this Draft EIS, the Dixie National Forest Supervisor will decide whether or not to retain, close, relocate, or decommission roads and motorized trails within the Duck/Swains Area in accordance with Forest Plan goals, objectives and desired future conditions. The Forest Supervisory will decide whether to implement an action alternative, a modified action alternative, or the no action alternative. If an action alternative is selected, it may include:

• The miles and location of roads to retain open;

• The miles and location of roads to close;

• The miles and location of roads to decommission;

• The miles and location of new motorized trails to construct;

• The miles and location of roads to restrict for motorized trail use;

• The location of a new motorized bridge across Swains Creek;

• Changing the Code of Federal Regulations Order to implement closed unless designated open; and/or

• Mitigation measures and monitoring requirements.

This decision does not include a forest plan amendment.

Scoping Process

On May 21, 2001, we published a notice in the Federal Register (Vol. 66, No. 98, pgs 27934-27936) soliciting public involvement in the development of issues necessary to complete an analysis of the environmental impacts of reducing roads in the Duck Creek-Swains area of the Cedar City Ranger District on the Dixie National Forest. We solicited comments on that notice for 45 days and received 184 comments. We will consider all the comments that we received in response to our May 21, 2001 notice during the preparation of the EIS that is the subject of this notice. Therefore, if you submitted comments in response to the March 2001 notice, you do not need to resubmit those comments in order for the information provided in them to be considered during the development of the EIS.

Preliminary Issues

Issues identified to date include the following:

1. Open and closed roads cause resource impacts such as fragmentation and sedimentation.

2. Some of the roads proposed for closure or decommissioning provide access to scenic vistas, woodcutting, picnicking, hunting, and camping. Closing or decommissioning roads would eliminate access to these areas.

3. Increasing ATV and OHV use on the fewer roads left open would not meet current and anticipated demand increase would cause the potential for user conflicts, congestion and displacement.

4. Use on some roads left open could cause impacts to goshawk and peregrine falcon nesting areas, rims, meadows, and other sensitive areas for wildlife.

5. Existing roads cause changes in natural drainage patterns by intercepting subsurface flow, preventing infiltration and redirecting flow.

Comment Requested

This notice of intent continues the scoping process which guides the development of the environmental impact statement. On May 21, 2001, we published a notice in the Federal Register (Vol. 66, No. 98, pgs 27934-27936) soliciting public involvement in the development of issues necessary to complete an analysis of the environmental impacts of reducing roads in the Duck Creek-Swains area of the Cedar City Ranger District on the Dixie National Forest. We solicited comments on that notice for 45 days and received 184 comments. We will consider all the comments that we received in response to our May 21, 2001 notice during the preparation of the EIS that is the subject of this notice. Therefore, if you submitted comments in response to the March 2001 notice, you do not need to resubmit those comments in order for the information provided in them to be considered during the development of the EIS.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Authority: 40 CFR 1501.7 and 1508.22; Forest Service Handbook 1909.15, Section 21.

Dated: May 23, 2002.
Mary Wagner,
Forest Service, Dixie National Forest.

[FR Doc. 02-16709 Filed 7-2-02; 8:45 am]

BILLING CODE 3410-11-M